COMMISSION ON CIVIL RIGHTS

Sunshine Act Meetings

AGENCY: United States Commission on Civil Rights.

ACTION: Notice of Commission public business meeting.

DATES: Friday, February 21, 2025, 10:00 a.m. EST.

ADDRESSES: Meeting to take place in person and is open to the public.

U.S. Commission on Civil Rights, 1331 Pennsylvania Ave. NW, Suite 1150, Washington, DC 20425

It will also be livestreamed on the Commission's YouTube page: https://www.youtube.com/user/USCCR/videos.

FOR FURTHER INFORMATION CONTACT: Joe Kim: 202-376-7700; publicaffairs@usccr.gov.

SUPPLEMENTARY INFORMATION: In accordance with the Government in Sunshine Act (5 U.S.C. 552b), the Commission on Civil Rights is holding a meeting to discuss the Commission's business for the month of February. This business meeting is open to the public. Computer assisted real-time transcription (CART) will be provided. The web link to access CART (in English) on Friday, February 21, 2025, is https://www.streamtext.net/player?event=USCCR. Please note that CART is text-only translation that occurs in real time during the meeting and is not an exact transcript.

Meeting Agenda

I. Approval of Agenda

II. Business Meeting

A. Discussion and Vote on State Advisory Committee Appointments

• Maryland

• Michigan

• Montana

• New Jersey

• New York

• Oklahoma

• Rhode Island

• Virginia

B. Management and Operations

• Staff Director's Report

III. Adjourn Meeting

Dated: February 11, 2025.
David Mussatt,
USCCR Chief Regional Programs Unit.

[FR Doc. 2025-02647 Filed 2-11-25; 4:15 pm]

BILLING CODE 6335-01-P